NUCLEAR REGULATORY COMMISSION

[Docket Nos. 50-528, 50-529, and 50-530]

Arizona Public Service Company; Notice of Partial Withdrawal of Application for Amendment to Facility Operating License

The U.S. Nuclear Regulatory Commission (the Commission) has granted the request of Arizona Public Service Company (the licensee) to partially withdraw its May 28, 2003, application for proposed amendments to Facility Operating License No. NPF-41, NF-51, and NPF-74 for the Palo Verde Nuclear Generating Station, Units 1, 2, and 3, located in Maricopa County, Arizona.

The proposed amendments would modify several surveillance requirements (SRs) in Technical Specifications (TSs) 3.8.1 and 3.8.4 on alternating current and direct current sources, respectively, for plant operation. The revised SRs would have notes deleted or modified to allow the SRs to be performed, or partially performed, in reactor modes that are currently not allowed by the TSs. The current SRs are not allowed to be performed in Modes 1 and 2. Several of the current SRs also cannot be performed in Modes 3 and 4.

The Commission had previously issued a Notice of Consideration of Issuance of Amendment published in the Federal Register on July 8, 2003 (68 FR 40709). However, the licensee partially withdrew the proposed change in two separate letters. By letter dated June 23, 2004, the licensee withdrew the proposed changes to the notes in SR 3.8.4.7 and SR 3.8.4.8 and by letter dated September 27, 2005, the licensee withdrew the proposed changes to SRs 3.8.1.9, 3.8.1.10, and 3.8.1.14.

For further details with respect to this action, see the application for amendments dated May 28, 2003, and the licensee's letters dated June 23, 2004, and September 27, 2005, which partially withdrew the application for license amendments. Documents may be examined, and/or copied for a fee, at the NRC's Public Document Room (PDR), located at One White Flint North, Public File Area O1F21, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209, 301-415-4737, or by e-mail to pdr@nrc.gov.

Dated at Rockville, Maryland, this 29th day of September 2005.
For the Nuclear Regulatory Commission.
Mel B. Fields,
Senior Project Manager, Section 2, Project Directorate IV, Division of Licensing Project Management, Office of Nuclear Reactor Regulation.

[FR Doc. E5-5529 Filed 10-6-05; 8:45 am]

BILLING CODE 7590-01-P